INTERNATIONAL TRADE COMMISSION

[USITC SE-19-004]

Government in the Sunshine Act Meeting Notice

Agency Holding the Meeting: United States International Trade Commission.

Time and Date: March 20, 2019 at 11:00 a.m.

Place: Room 101, 500 E Street SW, Washington, DC 20436. Telephone: (202) 205-2000.

Status: Open to the public.

Matters to be Considered:

1. Agendas for future meetings: None.

2. Minutes.

3. Ratification List.

4. Vote on Inv. Nos. 701-TA-615-617 and 731-TA-1432-1434 (Preliminary) (Fabricated Structural Steel from Canada, China, and Mexico). The Commission is currently scheduled to complete and file its determinations on March 21, 2019; views of the Commission are currently scheduled to be completed and filed on March 28, 2019.

5. Vote on Inv. Nos. 701-TA-597 and 731-TA-1407 (Final) (Cast Iron Soil Pipe from China). The Commission is currently scheduled to complete and file its determinations and views of the Commission by April 3, 2019.

6. Outstanding action jackets: None.

In accordance with Commission policy, subject matter listed above, not disposed of at the scheduled meeting, may be carried over to the agenda of the following meeting.

By order of the Commission.
Issued: March 12, 2019.
William Bishop,
Supervisory Hearings and Information Officer.

[FR Doc. 2019-05020 Filed 3-13-19; 4:15 pm]

BILLING CODE 7020-02-P